DEPARTMENT OF COMMERCE

National Oceanic and Atmospheric Administration

RIN 0648-XA713

Endangered Species; File No. 16547-01

AGENCY: National Marine Fisheries Service (NMFS), National Oceanic and Atmospheric Administration (NOAA), Commerce.

ACTION: Notice, issuance of permit modification

SUMMARY: Notice is hereby given that the United States Fish and Wildlife Service, 11110 Kimages Road; Charles City, Virginia 23030 [Albert Spells: Responsible Party], has been issued a permit modification to take Atlantic sturgeon (Acipenser oxyrinchus oxyrinchus) for purposes of scientific research.

ADDRESSES: The permit modification and related documents are available for review upon written request or by appointment in the following offices:

• Permits and Conservation Division, Office of Protected Resources, NMFS, 1315 East-West Highway, Room 13705, Silver Spring, MD 20910; phone (301) 427-8401; fax (301) 713-0376; and

• Northeast Region, NMFS, 55 Great Republic Drive, Gloucester, MA 01930; phone (978) 281-9328; fax (978) 281-9394.

FOR FURTHER INFORMATION CONTACT: Malcolm Mohead or Colette Cairns, (301) 427-8401.

SUPPLEMENTARY INFORMATION: On December 7, 2012, notice was published in the Federal Register (77 FR 73024) that a request for a scientific research permit modification to take Atlantic sturgeon had been submitted by the above-named applicant. The requested permit modification has been issued under the authority of the Endangered Species Act of 1973, as amended (ESA; 16 U.S.C. 1531 et seq.) and the regulations governing the taking, importing, and exporting of endangered and threatened species (50 CFR parts 222-226).

Permit No. 16547 currently authorizes the permit holder to: evaluate the abundance of Atlantic sturgeon within the Chesapeake Distinct Population Segment (DPS); including the Chesapeake Bay and its tributaries above and below 22 parts per thousand salinity. Researchers are currently authorized to capture adult, juvenile and early life stages (ELS) of Atlantic sturgeon using gill nets, trawls, fyke nets, trammel nets, pound nets and egg mats; and to measure, weigh, tissue sample, Passive Integrated Transponder (PIT) Tag, and Floy tag appropriately sized animals. A subset can be tagged either externally or internally with telemetry tags dependent on the life stage (adult, sub-adult and juvenile) and the salinity level where captured; or also externally satellite tagged.

The permit holder now is authorized to: telemetry tag adult or juvenile Atlantic sturgeon with either internal or external telemetry tags without respect to salinity level in the waters of Virginia and Maryland. All previous activities are authorized; however, the numbers of adult and sub-adult Atlantic sturgeon taken will be reduced from 425 to 350 per year, while numbers of juvenile Atlantic sturgeon taken will be reduced from 175 to 125 annually. The permit holder is also authorized to internally telemetry tag 50 juvenile Atlantic sturgeon. The numbers of ELS will also be increased from 25 to 50 annually while using a film crew to document the activity. The modification will be valid until the permit expires on April 5, 2017.

Dated: March 26, 2013.
Helen Golde,
Acting Chief, Office of Protected Resources, National Marine Fisheries Service.

[FR Doc. 2013-07342 Filed 3-28-13; 8:45 am]

BILLING CODE 3510-22-P